DEPARTMENT OF COMMERCE

National Oceanic and Atmospheric Administration

National Sea Grant Review Panel

AGENCY: National Oceanic and Atmospheric Administration, Commerce.

ACTION: Notice of public meeting.

SUMMARY: This notice sets forth the schedule and proposed agenda of a forthcoming meeting of the Sea Grant Review Panel. The meeting will have several purposes. Panel members will discuss and provide advice on the National Sea Grant College Program in the areas of program evaluation, strategic planning, education and extension, science and technology programs, and other matters as described below:

DATES: The announced meeting is scheduled during two days: Tuesday, April 6, 1 p.m. to 6 p.m.; Wednesday, April 7, 8:45 a.m. to 3 p.m.

ADDRESSES: On April 6th, National Oceanic and Atmospheric Administration, 1305 East-West Highway, Conference Room #1W611, Silver Spring, Maryland 20910. On April 7th, Sea Grant Association Office, 1201 New York Avenue, Northwest, 4th Floor Conference Room, Washington, DC 20005.

FOR FURTHER INFORMATION CONTACT: Dr. Francis M. Schuler, Designated Federal Official, National Sea Grant College Program, National Oceanic and Atmospheric Administration, 1315 East-West Highway, Room 11837, Silver Spring, Maryland 20910, (301)713-2445.

SUPPLEMENTARY INFORMATION: The Panel, which consists of a balanced representation from academia, industry, state government and citizens groups, was established in 1976 by Section 209 of the Sea Grant Improvement Act (Public Law 94-461, 33 U.S.C. 1128). The Panel advises the Secretary of Commerce and the Director of the National Sea Grant College Program with respect to operations under the Act, and such other matters as the Secretary refers to them for review and advice. The agenda for the meeting is as follows:

Tuesday, April 6, 2004

1 p.m.-6 p.m.

1 p.m.—Welcoming and Opening Remarks

1:15 p.m.—New Officers Election

1:30 p.m.—Executive Committee Report

1:45 p.m.—National Sea Grant Office (NSGO) Director Report

2:15 p.m.—Panel Strategy Discussion

3:30 p.m.—Break

3:45 p.m.—Communications Review Report

5:30 p.m.—Old Panel Business

6 p.m.—Adjourn

Wednesday, April 7, 2004

8:45 a.m.-3 p.m.

8:45 a.m.—New Panel Business

9 a.m.—NOAA Research Assistant Administrator Update

9:45 a.m.—NOAA Ocean Service Deputy Administrator Update

10:15 a.m.—Break

10:30 a.m.—Congressional Reports

11:30 a.m.—Sea Grant Association Report

12 noon—Lunch

1 p.m.—NSGO Update

1:30 p.m.—Consortium for Oceanographic Research and Education (CORE) Report

2 p.m.—NSGO Update (continued)

2:30 p.m.—Wrap-up

3 p.m.—Adjourn

This meeting will be open to the public.

Dated: March 12, 2004.
Louisa Koch,
Deputy Assistant Administrator, Office of Oceanic and Atmospheric Research.

[FR Doc. 04-6023 Filed 3-16-04; 8:45 am

BILLING CODE 3510-KA-P